DEPARTMENT OF TRANSPORTATION

Federal Motor Carrier Safety Administration

[Docket No. FMCSA-2006-23773]

Qualification of Drivers; Exemption Applications; Vision

AGENCY: Federal Motor Carrier Safety Administration (FMCSA), DOT.

ACTION: Notice of applications for exemption from the vision standard; request for comments.

SUMMARY: FMCSA announces receipt of applications from 19 individuals for exemption from the vision requirement in the Federal Motor Carrier Safety Regulations. If granted, the exemptions will enable these individuals to qualify as drivers of commercial motor vehicles (CMVs) in interstate commerce without meeting the Federal vision standard.

DATES: Comments must be received on or before March 13, 2006.

ADDRESSES: You may submit comments identified by DOT Docket Management System (DMS) Docket Number FMCSA-2006-23773 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov, including any personal information provided. Please see the Privacy Act heading for further information.

Docket: For access to the docket to read background documents or comments received, go to http://dms.dot.gov or to Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@fmcsa.dot.gov, FMCSA, Department of Transportation, 400 Seventh Street, SW., Washington, DC 20590-0001. Office hours are from 8 a.m. to 5 p.m., E.T., Monday through Friday, except Federal holidays.

SUPPLEMENTARY INFORMATION:

Background

Under 49 U.S.C. 31315 and 31136(e), FMCSA may grant an exemption for a 2-year period if it finds “such exemption would likely achieve a level of safety that is equivalent to, or greater than, the level that would be achieved absent such exemption.” FMCSA can renew exemptions at the end of each 2-year period. The 19 individuals listed in this notice each have requested an exemption from the vision requirement in 49 CFR 391.41(b)(10), which applies to drivers of CMVs in interstate commerce. Accordingly, the agency will evaluate the qualifications of each applicant to determine whether granting the exemption will achieve the required level of safety mandated by statute.

Qualifications of Applicants

Scott E. Ames

Mr. Ames, age 38, has loss of vision in his left eye due to traumatic optic neuropathy since 1987. The best corrected visual acuity in his right eye is 20/15 and in the left, 20/400. Following an examination in 2005, his optometrist noted, “In my medical opinion, Mr. Scott Ames has sufficient vision to perform the driving tasks required to operate a commercial vehicle.” Mr. Ames reported that he has driven straight trucks for 12 years, accumulating 360,000 miles, and tractor-trailer combinations for 7 years, accumulating 238,000 miles. He holds a Class A commercial driver's license (CDL) from Maine. His driving record for the last 3 years shows no crashes or convictions for moving violations in a CMV.

Otto J. Ammer, Jr.

Mr. Ammer, 44, has had macular scaring in his right eye since childhood due to ocular histoplasmosis. The best corrected visual acuity in his right eye is 20/200 and in the left, 20/20. His optometrist examined him in 2005 and noted, “It is my opinion that Mr. Ammer's visual acuity and visual fields will remain stable over the ensuing years. It is, further, my opinion that Mr. Ammer has sufficient vision to operate a commercial motor vehicle.” Mr. Ammer reported that he has driven straight trucks for 5 years, accumulating 50,000 miles, and tractor-trailer combinations for 25 years, accumulating 1.7 million miles. He holds Class A CDL from Pennsylvania. His driving record for the last three years shows no crashes or convictions for moving violations in a CMV.

Harold J. Bartley, Jr.

Mr. Bartley, 37, has aphakia in his left eye due to a traumatic injury sustained as a child. The visual acuity in his right eye is 20/20 and in the left, count-finger-vision. His ophthalmologist examined him in 2005 and noted, “In my opinion, Mr. Bartley has excellent visual acuity in his right eye and good peripheral vision in his left eye and his condition is stable. Mr. Bartley has sufficient vision to perform the driving tasks required to operate a commercial vehicle at this time.” Mr. Bartley reported that he has driven straight trucks for 10 years, accumulating 230,000 miles. He holds a Class B CDL from Kentucky. His driving record for the last 3 years shows no crashes or convictions for moving violations in a CMV.

Arthur L. Fields

Mr. Fields, 54, has a prosthetic left eye due to trauma sustained in 1992. The best corrected visual acuity in his right eye is 20/20. Following an examination in 2005, his optometrist noted, “I do certify that Mr. Fields has sufficient vision to perform the driving tasks to operate a commercial vehicle.” Mr. Fields reported that he has driven straight trucks for 6.5 years, accumulating 78,000 miles. He holds a Class A CDL from South Carolina. His driving record for the last 3 years shows no crashes or convictions for moving violations in a CMV.

John W. Forgy

Mr. Forgy, 51, has had a chronic retinal detachment with aphakia in his right eye due to trauma sustained as a child. The visual acuity in his right eye is hand-motion-vision and in the left, 20/20. Following an examination in 2005, his ophthalmologist noted, “I feel that Mr. Forgy has sufficient vision to drive commercial vehicles without any reservation.” Mr. Forgy reported that he has driven straight trucks for 3 years, accumulating 65,000 miles. He holds a Class B CDL from Idaho. His driving record for the last 3 years shows no crashes or convictions for moving violations in a CMV.

Rupert G. Gilmore, III

Mr. Gilmore, 47, has had amblyopia in his left eye since birth. The visual acuity in his right eye is 20/20 and in the left, 20/100. Following an examination in 2005, his ophthalmologist noted, “In my opinion, this gentleman has sufficient vision to perform the driving tasks required to operate a commercial vehicle.” Mr. Gilmore reported that he has driven straight trucks for 23 years, accumulating 276,000 miles. He holds a Class B CDL from Alabama. His driving record for the last 3 years shows no crashes or convictions for moving violations in a CMV.

George R. Gorsuch, Jr.

Mr. Gorsuch, 56, has had amblyopia in his left eye since childhood. The best corrected visual acuity in his right eye is 20/25 and in the left, 20/60. His optometrist examined him in 2005 and noted, “After interpreting the data, I am pleased to report that the patient has sufficient vision to perform the driving tasks required to operate a commercial vehicle.” Mr. Gorsuch reported that he has driven straight trucks for 30 years, accumulating 1 million miles and tractor-trailer combinations for 30 years, accumulating 1 million miles. He holds A Class A CDL from Indiana. His driving record for the last 3 years shows no crashes or convictions for moving violations in a CMV.

Walter R. Hardiman

Mr. Hardiman, 59, has loss of vision in his right eye due to an injury sustained as a child. The best corrected visual acuity in his right eye is 20/200 and in the left, 20/20. Following an examination in 2005, his optometrist noted, “In my opinion, Mr. Hardiman's condition is stable and he has sufficient vision to perform the driving tasks required to operate a commercial vehicle.” Mr. Hardiman reported that he has driven straight trucks for 8 years, accumulating 192,000 miles. He holds a Class A CDL from West Virginia. His driving record for the last 3 years shows no crashes or convictions for moving violations in a CMV.

Sergio A. Hernandez

Mr. Hernandez, 59, has a congenital cataract in his left eye. The visual acuity in his right eye is 20/20 and in the left, light perception only. Following an examination in 2005, his optometrist noted, “In my opinion, his monocular vision is sufficient to drive a commercial vehicle without concern.” Mr. Hernandez reported that he has driven straight trucks for 5 years, accumulating 100,000 miles, and tractor-trailer combinations for 9 years, accumulating 180,000 miles. He holds a Class A CDL from Texas. His driving record for the last 3 years shows no crashes or convictions for moving violations in a CMV.

Burt A. Hughes

Mr. Hughes, 53, has had loss of vision in the left eye due to retinopathy of prematurity since birth. The best corrected visual acuity in his right eye is 20/25 and in the left, count-finger-vision at 3 feet. Following an examination in 2005, his optometrist noted, “It is my opinion that the patient has sufficient vision at this time to continue to perform the driving tasks required to operate a commercial motor vehicle.” Mr. Hughes reported that he has driven straight trucks for 6 years, accumulating 192,000 miles. He holds a Class A CDL from Texas. His driving record for the last 3 years shows no crashes or convictions for moving violations in a CMV.

Fredrick C. Ingles

Mr. Ingles, 55, has had a prosthetic right eye due to a traumatic injury sustained in 1988. The visual acuity in his left eye is 20/20. Following an examination in 2005, his ophthalmologist noted, “In my opinion, Mr. Ingles is safe to operate a commercial vehicle, having excellent vision in the left eye. His vision in the left eye is stable and the fitting of the prosthesis in the right eye is excellent.” Mr. Ingles reported that he has driven straight trucks for 9 years, accumulating 178,000 miles. He holds a Class D operator's license from West Virginia. His driving record for the last 3 years shows no crashes or convictions for moving violations in a CMV.

Clyde Johnson, III

Mr. Johnson, 44, has had amblyopia in his left eye since childhood. The visual acuity in his right eye is 20/20 and in the left, count-finger-vision at 4 feet. Following an examination in 2005, his optometrist noted, “Mr. Johnson's amblyopia does not affect his visual field capabilities. Therefore, his visual skills should allow him to perform the driving tasks required to drive a commercial vehicle. Mr. Johnson reported that he has driven straight trucks for 15 years, accumulating 75,000 miles, and tractor-trailer combinations for 15 years, accumulating 1.8 million miles. He holds a Class A CDL from Michigan. His driving record for the last 3 years shows no crashes or convictions for moving violations in a CMV.

Paul E. Lindon

Mr. Lindon, 51, has had a macular scar in his left eye for more than 10 years due to ocular histoplasmosis. The best corrected vision in his right eye is 20/20 and in the left, 20/400. Following an examination in 2005, his optometrist noted, “In my medical opinion, Paul Lindon has sufficient vision to perform the driving tasks required to operate a commercial vehicle.” Mr. Lindon reported that he has driven straight trucks for 2 years, accumulating 62,000 miles, and tractor-trailer combinations for 1 year, accumulating 53,000 miles. He holds a Class D operator's license from Kentucky. His driving record for the last 3 years shows no crashes or convictions for moving violations in a CMV.

Aaron C. Lougher

Mr. Lougher, 32, has had amblyopia in his left eye since birth. The visual acuity in his right eye is 20/20 and in the left, 20/200. Following an examination in 2005, his optometrist noted, “In my opinion, I do believe Mr. Lougher does have sufficient vision to perform the driving tasks required to operate a commercial vehicle.” Mr. Lougher reported that he has driven straight trucks for 13 years, accumulating 260,000 miles, and tractor-trailer combinations for 11 years, accumulating 330,000 miles. He holds a Class A CDL from Oregon. His driving record for the last 3 years shows no crashes or convictions for moving violations in a CMV.

Joe S. Nix, IV

Mr. Nix, 27, has complete loss of vision in the left eye due to an injury sustained as a child. The visual acuity in his right eye is 20/20. Following an examination in 2005, his optometrist noted, “In my opinion, Joe has sufficient vision to perform the driving tasks required to operate a commercial vehicle.” Mr. Nix reported that he has driven straight trucks for 8 years, accumulating 624,000 miles. He holds a Class B CDL from Missouri. His driving record for the 3 years shows no crashes or convictions for moving violations in a CMV.

Luis F. Saavedra

Mr. Saavedra, 55, has had ischemic optic neuropathy in his right eye since 2002. The best corrected visual acuity in his right eye is 20/70 and in the left, 20/20. Following an examination in 2005, his ophthalmologist noted, “It is my opinion that Mr. Saavedra has sufficient vision to perform the driving tasks required to operate a commercial vehicle.” Mr. Saavedra reported that he has driven straight trucks for 30 years, accumulating 390,000 miles. He holds a Class D operator's license from Florida. His driving record for the last 3 years shows no crashes or convictions for moving violations in a CMV.

Raul R. Torres

Mr. Torres, 44, has loss of vision in his right eye due to trauma sustained in 1989. The best corrected visual acuity in his right eye is 20/80 and in the left, 20/20. Following an examination in 2005, his optometrist noted, “All our findings were discussed with Mr. Torres. We informed him that in our opinion, he has sufficient vision to perform the driving tasks required to operate a commercial motor vehicle.” Mr. Torres reported that he has driven tractor-trailer combinations for 10 years, accumulating 120,000 miles. He holds a Class A CDL from California. His driving record for the last 3 years shows no crashes and one conviction for a moving violation in a CMV, failure to stop at a red light.

Darwin J. Thomas

Mr. Thomas, 57, has had amblyopia in his left eye since birth. The best corrected visual acuity in his right eye is 20/25 and in the left, 20/80. His optometrist examined him in 2005 and noted, “His vision both in terms of acuity and field of vision, in my opinion, is adequate to drive a commercial vehicle.” Mr. Thomas reported that he has driven straight trucks for 2 years, accumulating, 12,000 miles and tractor-trailer combinations for 21 years, accumulating 2.1 million miles. He holds a Class A CDL from Pennsylvania. His driving record for the last 3 years shows no crashes or convictions for moving violations in a CMV.

Darel G. Wagner

Mr. Wagner, 50, has had chorioretinitis in his left eye since childhood. The best corrected vision in his right eye is 20/20 and in the left, 20/100. Following an examination in 2005, his optometrist noted, “I expect Mr. Wagner's vision condition is stable, and I do not anticipate any retinal change. Because he has learned to adapt to this condition as a child, it is my professional opinion that he has sufficient vision to operate a commercial vehicle safely.” Mr. Wagner reported that he has driven tractor-trailer combinations for 5 years, accumulating 350,000 miles. He holds a Class A CDL from Minnesota. His driving record for the last 3 years shows no crashes or convictions for moving violations in a CMV.

Request for Comments

In accordance with 49 U.S.C. 31315 and 31136(e), FMCSA requests public comment from all interested persons on the exemption applications described in this notice. The agency will consider all comments received before the close of business March 13, 2006. Comments will be available for examination in the docket at the location listed under the ADDRESSES section of this notice. The agency will file comments received after the comment closing date in the public docket, and will consider them to the extent practicable. In addition to late comments, FMCSA will also continue to file, in the public docket, relevant information that becomes available after the comment closing date. Interested persons should monitor the public docket for new material.

Issued on: February 2, 2006.
Larry W. Minor,
Office Director, Bus and Truck Standards and Operations.

[FR Doc. E6-1756 Filed 2-8-06; 8:45 am]

BILLING CODE 4910-EX-P